DEPARTMENT OF THE INTERIOR

National Park Service

[NPS-WASO-NAGPRA-NPS0023810]

Notice of Inventory Completion: Tennessee Valley Authority, Knoxville, TN

AGENCY: National Park Service, Interior.

ACTION: Notice.

SUMMARY: The Tennessee Valley Authority (TVA) has completed an inventory of human remains and associated funerary objects, in consultation with the appropriate federally recognized Indian Tribes, and has determined that a cultural affiliation between the human remains and associated funerary objects and present-day federally recognized Indian Tribes can reasonably be traced. Lineal descendants or representatives of any federally recognized Indian Tribe not identified in this notice that wish to request transfer of control of these human remains and associated funerary objects should submit a written request to TVA. If no additional requestors come forward, transfer of control of the human remains and associated funerary objects to the federally recognized Indian Tribes stated in this notice may proceed.

DATES: Lineal descendants or representatives of any federally recognized Indian Tribe not identified in this notice that wish to request transfer of control of these human remains and associated funerary objects should submit a written request with information in support of the request to TVA at the address in this notice by October 5, 2017.

ADDRESSES: Dr. Thomas O. Maher, TVA, 400 West Summit Hill Drive, WT11D, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites in Jackson and Marshall Counties, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and United Keetoowah Band of Cherokee Indians in Oklahoma (hereafter referred to as “The Consulted Tribes”).

History and Description of the Remains

The sites listed in this notice were excavated as part of TVA's Guntersville Reservoir project by the Alabama Museum of Natural History (AMNH) at the University of Alabama, using labor and funds provided by the Works Progress Administration. Details regarding these excavations and sites may be found in a report, “An Archaeological Survey of Guntersville Basin on the Tennessee River in Northern Alabama,” by William S. Webb and Charles G. Wilder. The human remains and associated funerary objects excavated from the sites listed in this notice have been in the physical custody of the AMNH at the University of Alabama since excavation, but are under the control of TVA.

From March to April of 1938, human remains representing, at minimum, 10 individuals were removed from the Hardin site (1JA27) in Jackson County, AL, after TVA acquired the site on October 16, 1936. Excavations revealed two primary occupations during the Late Woodland Flint River phase (A.D. 500-1000) and the Mississippian Henry Island phase (A.D. 1200-1450). The culturally affiliated human remains are from the Henry Island phase. The human remains include adults, juveniles, and infants of female and indeterminate sex. No known individuals were identified. The 11 associated funerary objects include 2 Bell Plain sherds; 1 Carthage Incised rim sherd; 1 conch shell cup; 1 Etowah Complicated Stamped jar; 1 Mississippi Plain bowl; 1 Mississippi Plain composite jar; 1 Mississippi Plain standard jar; 1 Moundville Engraved sherd; 1 Mulberry Creek Plain hemispherical bowl; and 1 Nashville Negative Painted bottle.

From January to June of 1938, human remains representing, at minimum, 19 individuals were removed from the Saulty and Riley site (1JA28) in Jackson County, AL, after TVA purchased the site on October 16, 1936. Site 1JA28 was composed of both a village and adjacent mound with Woodland (Flint River phase) and Mississippian occupations identified. The culturally affiliated human remains are from the Henry Island phase (circa A.D. 1200-1450). The human remains include adults, juveniles, and children of both sexes. No known individuals were identified. The 190 associated funerary objects include 4 Bell Plain sherds; 1 Bell Plain jar; 4 bone awls or Fids; 1 Carthage Incised bowl; 2 clay earspools; 3 pieces of cut mica; 1 stone discoidal; 2 mussel shells; 7 Mississippi Plain jars; 145 Mississippi Plain sherds; 9 Mississippi Plain bowl sherds; 1 Mississippi Plain effigy jar; 1 Mississippi Plain bowl; 1 Moundville Incised, var. Snows Bend jar; 1 Moundville Incised, var. Carrolton jar; 2 Mulberry Creek Plain, var. Hamilton sherds; 3 shell gorgets; 1 eroded shell-tempered sherd; and 1 Wright Check Stamped sherd.

From September of 1938 to January of 1939, human remains representing, at minimum, 48 individuals were removed from the Laws site (1MS100) on Pine Island in Marshall County, AL, after TVA purchased the site on April 21, 1937. Excavations began at the levee adjacent to the river and proceeded by both vertical slicing and horizontal excavations. There appear to have been at least four occupations at this site, including a pre-ceramic period with steatite vessels; a village using limestone-tempered pottery during the Flint River phase (A.D. 500-1000); a late Mississippian occupation using shell-tempered ceramics and rectilinear wall trench structures (Crow Creek phase, A.D. 1500-1700); and the Euro-American trade period (circa A.D. 1670-1715). The human remains are from the last two occupations and include adults, juveniles, and children of both sexes. No known individuals were identified. The 32,239 associated funerary objects include 21 bark container fragments; 8 bark pouch fragments; 1 Bell Plain red-filmed bowl, 1 biface fragment; 5 bone beads; 2 dog canines; 3 botanical fragments; 14 brass arm band fragments; 2 brass arm cuffs; 55 brass arm cuff fragments; 352 brass beads; 23 brass bells; 6 brass disks; 16 brass fragments; 1 brass ring; 9 brass ring fragments; 3 brass sheet fragments; 8 brass spherical buttons; 1 brass square; 10 brass tinkler cones; 2 buckskin fragments; 5 buckskin pouch fragments; 1 burnishing stone; 6 charred cane fragments; 1 chipped stone drill; 29 drum tooth beads; 1 stone effigy pipe; 2 pieces of fired clay; 29,965 glass beads; 1 glass mirror; 1 ground limonite; 145 iron and brass wire bracelets; 718 iron bracelet fragments; 2 iron buckle fragments; 2 iron ring fragments; 56 iron wire fragments; 4 modified bones; 1 lead musket ball; 7 pieces of shell; 1 red pigment; 735 shell beads; 4 shell ear pins; 2 shell gorgets; 6 shell ornament fragments; and 1 split cane fragment.

From October to November of 1937, human remains representing, at minimum, 4 individuals were removed from site 1MS121 on Pine Island, in Marshall County, AL, after TVA purchased the site on April 19, 1937. There were excavations in both the village and adjacent mound. There are no radiocarbon dates for this site. The culturally affiliated human remains are from the Mississippian period (A.D. 1200-1500). The human remains are of four female adults. No known individuals were identified. The 16 associated funerary objects include 11 Bell Plain jar sherds; 1 crinoid bead; 2 Langston Fabric Marked sherds; and 2 Mississippi Plain bowls.

Although there is no absolute certainty that Native Americans of the Mississippian period are directly related to modern federally recognized Tribes, a relationship of shared group identity can reasonably be traced between these modern Tribes and the human remains and associated funerary objects of the earlier culture identified as Mississippian. The preponderance of the evidence indicates that the cultural items from Mississippian and early historic occupations at 1JA27, 1JA28, 1MS100, and 1MS121 are culturally affiliated with Native Americans descendants of the Koasati/Kaskinampo. These descendants include the Alabama-Coushatta Tribe of Texas (previously listed as the Alabama-Coushata Tribes of Texas); Alabama-Quassarte Tribal Town; Coushatta Tribe of Louisiana; and The Muscogee (Creek) Nation.

Chronicles from Spanish explorers of the 16th century and French explorers of the 17th and 18th century indicate the presence of chiefdom level tribal entities in the southeastern United States which resemble the Mississippian chiefdoms. Linguistic analysis of place names noted by multiple Spanish explorers indicates that Koasati speaking groups inhabited northeastern Alabama. Early maps and research into the historic Native American occupation of northeastern Alabama indicates that the Koasati (as called by the English) or the Kaskinampo (as called by the French) were found at multiple sites in Jackson and Marshall Counties in the 17th and 18th centuries. Oral history, traditions, and expert opinions of the descendants of Koasati/Kaskinampo indicate that this portion of the Tennessee River valley was a homeland of their Tribe. The subsequent involuntary diaspora of these peoples resulted in descendants of the Koasati/Kaskinampo among multiple federally recognized Tribes.

Determinations Made by the Tennessee Valley Authority

Officials of TVA have determined that:

• Pursuant to 25 U.S.C. 3001(9), the human remains described in this notice represent the physical remains of 81 individuals of Native American ancestry due to their presence in a prehistoric and early historic archeological site and osteological analysis.

• Pursuant to 25 U.S.C. 3001(3)(A), the 32,456 objects described in this notice are reasonably believed to have been placed with or near individual human remains at the time of death or later as part of the death rite or ceremony.

• Pursuant to 25 U.S.C. 3001(2), there is a relationship of shared group identity that can be reasonably traced between the Native American human remains and associated funerary objects listed in this notice and the Alabama-Coushatta Tribe of Texas (previously listed as the Alabama-Coushatta Tribes of Texas); Alabama-Quassarte Tribal Town; Coushatta Tribe of Louisiana; and The Muscogee (Creek) Nation.

Additional Requestors and Disposition

Lineal descendants or representatives of any federally recognized Indian Tribe not identified in this notice that wish to request transfer of control of these human remains and associated funerary objects should submit a written request with information in support of the request to Dr. Thomas O. Maher, TVA, 400 West Summit Hill Drive, WT11D, Knoxville, TN 37902-1401, telephone (865) 632-7458, email tomaher@tva.gov, by October 5, 2017. After that date, if no additional requestors have come forward, transfer of control of the human remains and associated funerary objects to the Alabama-Coushatta Tribe of Texas (previously listed as the Alabama-Coushatta Tribes of Texas); Alabama-Quassarte Tribal Town; Coushatta Tribe of Louisiana; and The Muscogee (Creek) Nation may proceed.

TVA is responsible for notifying The Consulted Tribes that this notice has been published.

Dated: August 29, 2017.
Sarah Glass,
Acting Manager, National NAGPRA Program.

[FR Doc. 2017-18688 Filed 9-1-17; 8:45 am]

BILLING CODE 4312-52-P